DEPARTMENT OF STATE

[Public Notice: 7633]

Determination Pursuant to Section 2121(h) of the Full-Year Continuing Appropriations Act, 2011, Relating to Foreign Military Financing for Lebanon

Pursuant to Section 2121(h) of the Full-Year Continuing Appropriations Act, 2011 (Div. B, Pub. L. 112-10) (CR), I hereby determine that provision of $74,850,000 in Foreign Military Financing funds appropriated by the CR for assistance for Lebanon is in the national security interest of the United States.

This determination shall be published in the Federal Register and copies shall be provided to the Congress together with the accompanying Memorandum of Justification.

Dated: September 27, 2011.
Thomas R. Nides,
Deputy Secretary of State for Management and Resources.

[FR Doc. 2011-25535 Filed 10-3-11; 8:45 am]

BILLING CODE 4710-05-P